DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and marine mammals.

DATES: Written data, comments or requests must be received by October 11, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Gibbon Conservation Center, Santa Clarita, CA, PRT-130533

The applicant requests a permit to import one live captive born female white-cheeked gibbon (Hylobates leucogenys) from the Wild Animal Park Planckendael, Belgium for the purpose of enhancement of the survival of the species.

Applicant: Smithsonian Institution National Zoological Park, Washington, DC, PRT-130449, 130450, 130451, 130551, and 134240.

The applicant requests a permit to import six captive born Przewalski's horses (Equus przewalskii) from Germany, Switzerland, and Belgium for the purpose of enhancement of the survival of the species through breeding and reintroduction.

Marine Mammals

The public is invited to comment on the following applications for a permit to conduct certain activities with marine mammals. The applications were submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

Applicant: Sea World, San Diego, CA, PRT-134585, 134586

The applicant requests permits to take two non-releasable walrus (Odobenus rosmarus) for the purpose of public display. The permit numbers and animals are: 134585, Tessa; 134586, Bocce. The animals were recovered as orphaned calves in Alaska in 2004 and 2005. The Service has determined that these animals do not demonstrate the skills and abilities needed to survive in the wild and considers them non-releasable. The applicant is applying for a permit to permanently hold these animals for the purpose of public display.

Applicant: Seattle Aquarium, Seattle, WA, PRT-134587, 134588, 134589, 134590, 134591

The applicant requests permits to take five non-releasable northern sea otters (Enhydra lutris kenyoni) for the purpose of public display. The permit numbers and animals are: 134587, Lootas; 134588, Nuka; 134589, Aniak; 134590, Adaa; 134591, Chugach. Lootas was recovered as an orphaned pup in Alaska in 1997. Nuka and Adaa were rescued as stranded pups in Alaska in 1989 and 2000. Aniak and Chugach were captive born in 2002 and 2005 from rescued parents. The Service has determined that these animals do not demonstrate the skills and abilities needed to survive in the wild and considers them non-releasable. The applicant is applying for a permit to permanently hold these animals for the purpose of public display.

Applicant: Point Defiance Zoo and Aquarium, Tacoma, WA, PRT-134592, 134593, 134594, 134595

The applicant requests permits to take three non-releasable northern sea otters (Enhydra lutris kenyoni) and one non-releasable walrus (Odobenus rosmarus) for the purpose of public display. The permit numbers and animals are: 134592, Toleak; 134593, Homer; 134594, Kenai; 134595, ET. Toleak was recovered as an orphaned pup in Washington in 2005. Homer and Kenai were rescued in Alaska in 1989. The walrus, ET, was rescued as a stranded calf in Alaska in 1982. The Service has determined that these animals do not demonstrate the skills and abilities needed to survive in the wild and considers them non-releasable. The applicant is applying for a permit to permanently hold these animals for the purpose of public display.

Applicant: Oregon Coast Aquarium, Newport, OR, PRT-134596

The applicant requests a permit to take one non-releasable northern sea otter (Enhydra lutris kenyoni) for the purpose of public display. Kodiak was rescued as a stranded pup in Alaska in 1989. The Service has determined that this animal does not demonstrate the skills and abilities needed to survive in the wild and considers it non-releasable. The applicant is applying for a permit to permanently hold this animal for the purpose of public display.

Applicant: Buckley V. Chappell, Forney, TX, PRT-127902

The applicant requests a permit to import a polar bear (Ursus maritimus) sport hunted from the Northern Beaufort Sea polar bear population in Canada for personal, noncommercial use.

Dated: August 25, 2006.
Monica Farris,
Senior Permit Biologist, Branch of Permits, Division of Management Authority.

[FR Doc. E6-15006 Filed 9-8-06; 8:45 am]

BILLING CODE 4310-55-P